DEPARTMENT OF LABOR

Employment and Training Administration

[TA-W-57,671]

Kellogg's Snack Division, Macon, GA; Notice of Termination of Investigation

Pursuant to Section 221 of the Trade Act of 1974, as amended, an investigation was initiated on August 4, 2005 in response to a petition filed on behalf of workers at Kellogg's Snack Division, Macon, Georgia.

The petitioners have requested that the petition be withdrawn. Consequently, the investigation has been terminated.

Signed at Washington, DC, this 15th day of August, 2005.
Linda G. Poole,
Certifying Officer, Division of Trade Adjustment Assistance.

[FR Doc. E5-4782 Filed 8-31-05; 8:45 am]

BILLING CODE 4510-30-P